DEPARTMENT OF AGRICULTURE

Submission for OMB Review; Comment Request

September 2, 2004.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Rural Housing Demonstration Program—Section 502.

OMB Control Number: 0575-0114.

Summary of Collection: Section 506 of the Housing Act of 1949 as amended by title V-Rural Housing of Housing and Urban-Rural Recovery Act of 1983 directs the Secretary to conduct research, technical studies and demonstrations in order to improve the architectural designs, cost effectiveness and utility of housing units. The amendment allows the Secretary to permit housing demonstrations which do not meet existing published standards, rules, regulations or policies, if the Secretary finds that in doing so, the health and safety of the population is not adversely affected.

Need and Use of the Information: RHS will use the collected information from the applicants to evaluate the strengths and weaknesses of the proposals to select the most feasible proposals that will enhance the Agency's chances in accomplishing the objective. The information will be utilized to sustain and modify RHS' current policies pertaining to the construction of modest housing.

Description of Respondents: Business or other for-profit; not-for-profit institutions; individuals or households; State, local or tribal government.

Number of Respondents: 25.

Frequency of Responses: Recordkeeping; reporting: On occasion.

Total Burden Hours: 2,000.

Sondra Blakey,
Departmental Information Collection Clearance Officer.

[FR Doc. 04-20384 Filed 9-8-04; 8:45 am]

BILLING CODE 3410-XT-P